DEPARTMENT OF TRANSPORTATION

Maritime Administration

Marine Transportation System National Advisory Council

ACTION: National Advisory Council public meeting.

SUMMARY: The Maritime Administration announces that the Marine Transportation System National Advisory Council (MTSNAC) will hold a meeting to discuss an expanded Marine Transportation System outreach and education program that addresses future workforce needs, environmental issues, and freight mobility; public and private sector data collection efforts; and addressing MTSNAC's ten public/private recommendations. A public comment period is scheduled for 10:30 a.m. to 11 a.m. on Thursday, January 10. 2008. To provide time for as many people to speak as possible, speaking time for each individual will be limited to three minutes. Members of the public who would like to speak are asked to contact Richard J. Lolich by January 2, 2008. Commenters will be placed on the agenda in the order in which notifications are received. If time allows, additional comments will be permitted. Copies of oral comments must be submitted in writing at the meeting. Additional written comments are welcome and must be filed by January 18, 2008.

DATES: The meeting will be held on Wednesday, January 9, 2008, from 3 p.m. to 5 p.m. and Thursday, January 10, 2008, from 8:30 a.m. to 5 p.m.

ADDRESSES: The meeting will be held in the Westin Seattle Hotel, 1900 Fifth Ave., Seattle, WA 98101. The hotel's phone number is 206-728-1000.

FOR FURTHER INFORMATION CONTACT: Richard Lolich, (202) 366-0704; Maritime Administration, MAR-540, Room W21-309, 1200 New Jersey Ave., SE., Washington, DC 20590-0001; richard.lolich@dot.gov.

Authority: 5 U.S.C. App 2, Sec. 9(a)(2); 41 CFR 101-6. 1005; DOT Order 1120.3B.

Dated: December 17, 2007.
By order of the Maritime Administrator.
Christine Gurland,
Acting Secretary, Maritime Administration.

[FR Doc. E7-25009 Filed 12-26-07; 8:45 am]

BILLING CODE 4910-81-P